DEPARTMENT OF THE INTERIOR

Fish and Wildlife Service

[FWS-R2-ES-2017-N075; FXES11140200000-178-FF02ENEH00]

Intent To Prepare a Draft National Environmental Policy Act Analysis and Associated Documents for LCRA Transmission Services Corporation's Proposed Habitat Conservation Plan, TX

AGENCY: Fish and Wildlife Service, Interior.

ACTION: Notice of intent; announcement of public scoping meetings; request for comments.

SUMMARY: We, the U.S. Fish and Wildlife Service, advise the public that we intend to evaluate the impacts of, and alternatives to, the proposed issuance of an incidental take permit (ITP) under the Endangered Species Act of 1973, as amended, to LCRA Transmission Services Corporation (LCRA TSC; applicant) for incidental take of approximately 35 federally listed species for construction, operation, upgrade, decommissioning, and maintenance of the applicant's facilities within the proposed plan area (approximately 241 counties). LCRA TSC proposes to draft a Habitat Conservation Plan in support of the ITP. We also announce plans for public scoping meetings and the opening of a public comment period under the National Environmental Policy Act of 1969, as amended (NEPA).

DATES: Written comments on alternatives and issues to be addressed must be received by close of business on or before August 30, 2017. Four public scoping meetings will be held throughout the proposed plan area. Exact meeting locations and times will be announced in local newspapers and on the Service's Austin Ecological Services Office Web site, https://www.fws.gov/southwest/es/AustinTexas/, at least 2 weeks prior to each meeting.

ADDRESSES: To request further information or submit written comments, use one of the following methods, and note that your information request or comment is in reference to the LCRA TSC NEPA analysis:

• Email: FW2_AUES_Consult@fws.gov;

• U.S. Mail: Field Supervisor, Austin Ecological Services Field Office, 10711 Burnet Road, Ste. 200, Austin, Texas 78758;

• Fax: (512) 490-0974; or

• Telephone: (512) 490-0057.

SUPPLEMENTARY INFORMATION: We, the U.S. Fish and Wildlife Service (Service), advise the public that we intend to evaluate the impacts of, and alternatives to, the proposed issuance of an incidental take permit (ITP) under the Endangered Species Act of 1973, as amended (16 U.S.C 1531 et seq.; ESA), to LCRA Transmission Services Corporation (LCRA TSC; applicant) for incidental take of approximately 35 federally listed species during construction, operation, upgrade, decommissioning, and maintenance of the applicant's facilities within the proposed plan area (approximately 241 Texas counties). LCRA TSC proposes to draft a Habitat Conservation Plan (HCP) in support of the ITP. We also announce plans for public scoping meetings and the opening of a public comment period.

We publish this notice in compliance with the National Environmental Policy Act of 1969, as amended (42 U.S.C. 4321, et seq.; NEPA), and its implementing regulations (40 CFR 1501.7, 1506.6, and 1508.22), and section 10(c) of the ESA. We will use and coordinate the NEPA process to fulfill our obligations under the National Historic Preservation Act (Pub. L. 89-665, as amended by Pub. L. 96-515, and as provided in 36 CFR 800.2(d)(3) and 800.8(c)). We intend to gather the information necessary to determine impacts and alternatives to support a decision regarding the potential issuance of an ITP to LCRA TSC under the ESA.

The applicant proposes to develop an HCP as part of their application for an ITP. The proposed HCP will describe, among other things, the measures necessary to minimize and mitigate the impacts, to the maximum extent practicable, of potential proposed taking of federally listed species and the habitats upon which they depend, resulting from operations, maintenance, upgrade, decommissioning, and construction of LCRA TSC facilities. At this time, we intend to evaluate the impacts of, and alternatives to, the proposed issuance of an ITP under the Act to LCRA TSC.

National Environmental Policy Act Process

Upon completion of the public scoping process and completion of our review of the applicant's proposed HCP, we will determine whether an environmental assessment (EA) or Environmental Impact Statement is the appropriate NEPA analysis to support potential issuance of the ITP.

Background

Section 9 of the ESA and its implementing regulations prohibit “take” of fish and wildlife species listed as endangered or threatened under the ESA. The ESA defines “take” as “to harass, harm, pursue, hunt, shoot, wound, kill, trap, capture, or collect listed animal species, or attempt to engage in such conduct” (16 U.S.C. 1533). The term “harm” is defined in the regulations as significant habitat modification or degradation that results in death or injury to listed species by significantly impairing essential behavioral patterns, including breeding, feeding, or sheltering (50 CFR 17.3). However, the Service may, under specified circumstances, issue permits that allow the take of federally listed species, provided that the take is incidental to, but not the purpose of, otherwise lawful activity. Regulations governing ITPs for endangered and threatened species are at 50 CFR 17.22 and 17.32, respectively.

Section 10(a)(1)(B) of the ESA contains provisions for issuing such ITPs to non-Federal entities for the take of endangered and threatened species, provided the following criteria are met: (1) The taking will be incidental; (2) the applicant will, to the maximum extent practicable, minimize and mitigate the impact of such taking; (3) the applicant will develop a conservation plan and ensure that adequate funding for the plan will be provided; (4) the taking will not appreciably reduce the likelihood of the survival and recovery of the species in the wild; and (5) the applicant will carry out any other measures that we may require as being necessary or appropriate for the purposes of the HCP (16 U.S.C. 1539(a)(1)(B) and 1539(a)(2)(A)).

Thus, the purpose of issuing an ITP is to authorize take associated with the proposed activities while conserving covered species and their habitats. Implementation of a comprehensive multispecies HCP, rather than a project-by-project approach, will maximize the benefits of conservation measures for the covered species and eliminate expensive and time-consuming efforts associated with processing individual ITPs for each project the applicant undertakes. We expect that the applicant will request ITP coverage for a period of 30 years.

Scoping Meetings

A primary purpose of the scoping process is to receive suggestions and information on the scope of issues and alternatives for the Service to consider. The Service is planning to have scoping meetings. The time and exact locations will be published in local newspapers of record and posted on the Austin Ecological Service Field Office Web site (https://www.fws.gov/southwest/es/AustinTexas/) no later than two weeks prior to holding the meetings. Written comments will be accepted at the meetings. Comments can also be submitted to persons listed in the ADDRESSES section.

Alternatives

The Proposed Action presented in our analysis will be compared to the No-Action alternative. The No-Action alternative represents estimated future conditions to which the Proposed Action's estimated future conditions can be compared.

No-Action Alternative

Because the proposed activities are necessary for providing services to accommodate future population growth and energy demand, these activities would continue regardless of whether the proposed ITP is sought or issued. Under the no-action alternative, the applicant would comply with the ESA by avoiding and minimizing impacts to listed species where practicable. Where impacts to listed species cannot be avoided, and where a Federal nexus exists, the applicant would address such impacts pursuant to the consultation process prescribed by section 7 of the ESA. Absent a Federal nexus, if the applicant is unable to avoid take, they would apply for an ITP on a project-by-project basis. This project-by-project approach would be more time-consuming and less efficient, and could result in an isolated, independent mitigation approach.

Proposed Alternative

The Proposed Action is the issuance of an ITP for the proposed covered species for the proposed covered activities within the Plan Area. The proposed HCP, which must meet the requirements in section 10(a)(2)(A) of the ESA by providing measures to minimize and mitigate the effects of the potential incidental take of covered species to the maximum extent practicable, would be developed in coordination with the Service and implemented by the applicant.

This alternative will allow for a comprehensive mitigation approach for unavoidable impacts and result in a more efficient and timely permit processing effort for the Service and the applicant. Actions covered under the requested ITP may include possible take of the species associated with the proposed activities.

The proposed activities include construction, operation, upgrade, decommissioning, and maintenance activities associated with current and future LCRA TSC electrical transmission lines, substations, access roads, and related infrastructure and facilities. More specifically, these may include general activities associated with new construction, maintenance, and emergency response and restoration, including stormwater discharges from construction sites, equipment access, and surveying. Construction activities covered for new facilities would include new overhead transmission lines, new support facilities such as substations and switching stations, adding a second circuit on an existing structure, and underground electric installation. Typical maintenance activities would include vegetation management within a right-of-way, expansion of existing support facilities, line upgrades, hardware replacement, and maintenance of above-ground and underground electric facilities.

The Plan Area encompasses 241 Texas counties, including: Anderson, Andrews, Angelina, Aransas, Archer, Armstrong, Atascosa, Austin, Bandera, Bastrop, Baylor, Bee, Bell, Bexar, Blanco, Borden, Bosque, Bowie, Brazoria, Brazos, Brewster, Briscoe, Brooks, Brown, Burleson, Burnet, Caldwell, Calhoun, Callahan, Cameron, Camp, Carson, Castro, Chambers, Cherokee, Childress, Clay, Coke, Coleman, Collin, Collingsworth, Colorado, Comal, Comanche, Concho, Cooke, Coryell, Cottle, Crane, Crockett, Crosby, Culberson, Dallas, Dawson, DeWitt, Deaf Smith, Delta, Denton, Dickens, Dimmit, Donley, Duval, Eastland, Ector, Edwards, Ellis, Erath, Falls, Fannin, Fayette, Fisher, Floyd, Foard, Fort Bend, Franklin, Freestone, Frio, Gaines, Galveston, Garza, Gillespie, Glasscock, Goliad, Gonzales, Gray, Grayson, Gregg, Grimes, Guadalupe, Hale, Hall, Hamilton, Hansford, Hardeman, Harris, Harrison, Hartley, Haskell, Hays, Hemphill, Henderson, Hidalgo, Hill, Hood, Hopkins, Houston, Howard, Hudspeth, Hunt, Hutchinson, Irion, Jack, Jackson, Jasper, Jeff Davis, Jefferson, Jim Hogg, Jim Wells, Johnson, Jones, Karnes, Kaufman, Kendall, Kenedy, Kent, Kerr, Kimble, King, Kinney, Kleberg, Knox, La Salle, Lamar, Lamb, Lampasas, Lavaca, Lee, Leon, Liberty, Limestone, Lipscomb, Live Oak, Llano, Loving, Lubbock, Lynn, Madison, Martin, Mason, Matagorda, Maverick, McCulloch, McLennan, McMullen, Medina, Menard, Midland, Milam, Mills, Mitchell, Montague, Montgomery, Moore, Morris, Motley, Nacogdoches, Navarro, Nolan, Nueces, Ochiltree, Oldham, Palo Pinto, Panola, Parker, Parmer, Pecos, Polk, Potter, Presidio, Rains, Randall, Reagan, Real, Red River, Reeves, Refugio, Roberts, Robertson, Rockwall, Runnels, Rusk, San Augustine, San Jacinto, San Patricio, San Saba, Schleicher, Scurry, Shackelford, Shelby, Smith, Somervell, Starr, Stephens, Sterling, Stonewall, Sutton, Swisher, Tarrant, Taylor, Terrell, Terry, Throckmorton, Titus, Tom Green, Travis, Trinity, Tyler, Upshur, Upton, Uvalde, Val Verde, Van Zandt, Victoria, Walker, Waller, Ward, Washington, Webb, Wharton, Wheeler, Wichita, Wilbarger, Willacy, Williamson, Wilson, Winkler, Wise, Wood, Young, Zapata, and Zavala Counties.

The applicant may apply for an ITP to cover 35 species listed as endangered or threatened within the proposed permit area. However, the ultimate list of species covered by the proposed ITP and associated HCP may change based on the outcome of more detailed reviews of the best available science, changes to the list of protected species, or further assessments of the likelihood of take from the proposed activities. At this time, LCRA TSC expects to include the following species:

Endangered birds: Golden-cheeked warbler (Setophaga [=Dendroica] chrysoparia), black-capped vireo (Vireo atricapilla), whooping crane (Grus americana), interior least tern (Sterna antillarum athalassos), southwestern willow flycatcher (Empidonax traillii extimus), Northern aplomado falcon (Falco femoralis septentrionalis), and red-cockaded woodpecker (Picoides borealis).

Threatened birds: Piping plover (Charadrius melodus), rufa red knot (Calidris canutus rufa), and western yellow-billed cuckoo (Coccyzus americanus).

Endangered mammals: Ocelot (Leopardus pardalis) and Gulf Coast jaguarundi (Herpailurus yagouaroundi cacomitli).

Endangered Amphibians: Barton Springs salamander (Eurycea sosorum) and Houston toad (Bufo houstonensis).

Threatened Amphibians: Georgetown salamander (Eurycea naufragia), Jollyville Plateau salamander (Eurycea tonkawae), Salado Springs salamander (Eurycea chisholmensis), and San Marcos salamander (Eurycea nana).

Endangered Invertebrates: Comal Springs riffle beetle (Heterelmis comalensis), Bee Creek Cave harvestman (Texella reddelli), Bone Cave harvestman (Texella reyesi), Cokendolpher Cave harvestman (Texella cokendolpheri), Tooth Cave pseudoscorpion (Tartarocreagris texana), Tooth Cave spider (Tayshaneta myopica), Inner Space Cavern mold beetle (Batrisodes texanus), Kretschmarr Cave mold beetle (Texamaurops reddelli), Tooth Cave ground beetle (Rhadine persephone), Braken Bat Cave meshweaver (Cicurina venii), Government Canyon Bat Cave meshweaver (Cicurina vespera), Madla Cave meshweaver (Cicurina madla), Robber Baron Cave meshweaver (Cicurina baronia), Government Canyon Bat Cave spider (Tayshaneta microps), Helotes mold beetle (Batrisodes venyivi), Rhadine exilis, and Rhadine infernalis.

Other Alternatives

We seek information regarding other reasonable alternatives during this scoping period and will evaluate the impacts associated with such alternatives in our analysis.

Public Availability of Comments

Written comments received will become part of the public record associated with this action. Before including your address, phone number, email address, or other personal identifying information in your comment, you should be aware that the entire comment—including your personal identifying information—will be publicly available. While you can ask us in your comment to withhold your personal identifying information from public review, we cannot guarantee that we will be able to do so.

Environmental Review

The Service will draft our environmental review to analyze the proposed action, as well as other alternatives, and the associated impacts of each alternative on the human environment and each species covered for the range of alternatives to be addressed. Our analysis is expected to provide biological descriptions of the affected species and habitats, as well as the effects of the alternatives on other resources, such as vegetation, wetlands, wildlife, geology and soils, air quality, water resources, water quality, cultural resources, land use, recreation, water use, local economy, and environmental justice. Following completion of the environmental review, the Service will publish a notice of availability and a request for comment on our environmental analysis and the applicants' permit application, which will include the draft HCP.

Joy E. Nicholopoulos,
Acting Regional Director, Region 2, Albuquerque, New Mexico.

[FR Doc. 2017-16056 Filed 7-28-17; 8:45 am]

BILLING CODE 4333-15-P